FEDERAL COMMUNICATIONS COMMISSION

[CG Docket No. 18-272; DA 18-941]

Termination of Dormant Proceedings

AGENCY: Federal Communications Commission.

ACTION: Notice of availability; request for comments.

SUMMARY: In this document, the Consumer and Governmental Affairs Bureau (the Bureau) announces the availability of the FCC Public Notice seeking comment on whether certain docketed Commission proceedings should be terminated as dormant.

DATES: Comments are due on or before November 16, 2018, and reply comments are due on or before December 3, 2018.

FOR FURTHER INFORMATION CONTACT: Daniel Margolis, Consumer and Governmental Affairs Bureau at (202) 418-1377 or by email at Daniel.Margolis@fcc.gov.

SUPPLEMENTARY INFORMATION: This is a summary of the Commission's document, CG Docket No. 18-272; DA 18-941, released on September 12, 2018. The full text of this document, including instructions on how to file comments; the spreadsheet associated with document DA 18-941 listing the proceedings proposed for termination; and copies of any subsequently filed documents in this matter will be available for public inspection and copying via ECFS at: https://www.fcc.gov/ecfs/ and during regular business hours at the FCC Reference Information Center, Portals II, 445 12th Street SW, Room CY-A257, Washington, DC 20554. Document DA 18-941 and the spreadsheet associated with document DA 18-941 listing the proceedings proposed for termination can also be downloaded in Word or Portable Document Format (PDF) at: https://www.fcc.gov/document/seventh-dormant-dockets-termination-public-notice. To request materials in accessible formats for people with disabilities (Braille, large print, electronic files, audio format), send an email to fcc504@fcc.gov or call the Consumer and Governmental Affairs Bureau at (202) 418-0530 (voice) or (202) 418-0432 (TTY). Pursuant to 47 CFR 1.415 and 1.419, interested parties may file comments and reply comments on or before the respective dates indicated in the DATES section of this document.

Federal Communications Commission.
Daniel Margolis,
Acting Legal Advisor, Consumer and Governmental Affairs Bureau.

[FR Doc. 2018-22510 Filed 10-16-18; 8:45 am]

BILLING CODE 6712-01-P